DEPARTMENT OF HOMELAND SECURITY

[Docket No. FEMA-2022-0005]

Privacy Act of 1974; System of Records

AGENCY: Federal Emergency Management Agency, Department of Homeland Security.

ACTION: Notice of a modified system of records.

SUMMARY: In accordance with the Privacy Act of 1974, the Department of Homeland Security (DHS) proposes to modify and reissue a current DHS system of records titled “Department of Homeland Security/Federal Emergency Management Agency (FEMA)-004 Non-Disaster Grant Management Information Files System Records.” This system of records allows DHS/FEMA to collect and maintain records from points of contact for state, local, tribal, territorial, and other entities applying for FEMA grant programs that are not disaster related. FEMA collects grant management information to determine eligibility for DHS grant awards for non-disaster grants and for the issuance of awarded funds. DHS/FEMA is updating this system of records to revise and add routine uses, as well as update the retention schedule. This updated system will be included in DHS's inventory of record systems.

DATES: Submit comments on or before August 10, 2022. This modified system will be effective upon publication. New or modified routine uses will be effective August 10, 2022.

ADDRESSES: You may submit comments, identified by docket number FEMA-2022-0005 by one of the following methods:

• Federal e-Rulemaking Portal: http://www.regulations.gov. Follow the instructions for submitting comments.

• Fax: 202-343-4010.

• Mail: Lynn Parker Dupree, Chief Privacy Officer, Privacy Office, Department of Homeland Security, Washington, DC 20528-0655.

Instructions: All submissions received must include the agency name and docket number FEMA-2022-0005. All comments received will be posted without change to http://www.regulations.gov, including any personal information provided.

Docket: For access to the docket to read background documents or comments received, go to http://www.regulations.gov.

FOR FURTHER INFORMATION CONTACT: For general questions please contact: Tammi Hines, (202) 212-5100, FEMA-Privacy@fema.dhs.gov, Senior Director for Information Management Directorate, Federal Emergency Management Agency, Washington, DC 20472. For privacy issues please contact: Lynn Parker Dupree, (202) 343-1717, Privacy@hq.dhs.gov, Chief Privacy Officer, Privacy Office, Department of Homeland Security, Washington, DC 20528-0655.

SUPPLEMENTARY INFORMATION:

I. Background

In accordance with the Privacy Act of 1974, DHS/FEMA proposes to modify an existing DHS system of records titled, “DHS/FEMA-004 Non-Disaster Grant Management Information Files System of Records”. The goal of FEMA's non-disaster related grant programs is to provide funding to enhance the capacity of state, local, tribal, and territorial emergency responders to prevent, respond to, and recover from a weapon of mass destruction terrorism incident involving chemical, biological, radiological, nuclear, explosive devices, and cyber-attacks. FEMA's non-disaster grant programs currently provide funds to all 50 states, the District of Columbia, the Commonwealth of Puerto Rico, American Samoa, the Commonwealth of Northern Mariana Islands, Guam, the U.S. Virgin Islands, certain types of non-profit organizations, and some private entities. FEMA non-disaster related grant programs are directed at a broad spectrum of state and local emergency responders, including firefighters, emergency medical services, emergency management agencies, law enforcement, and public officials. The source of the information collected by FEMA generally comes from state, local, tribal, and territorial governments; port authorities; transit authorities; non-profit organizations; and private companies seeking grant funding. The nature of data collected by FEMA includes basic public information about the agency or organization, the organization's financial information, and the organization's demonstrated need for the non-disaster grant funds.

Many of FEMA's non-disaster related grant programs implement objectives addressed in the Robert T. Stafford Disaster Relief and Emergency Assistance Act; a series of post-9/11 laws as outlined in the Authorities Section; the post-Katrina Emergency Management Reform Act (PKEMPRA) of 2006; and Homeland Security Presidential Directives (HSPD).

FEMA is updating this System of Records Notice to reflect the following changes: Routine Use E is being modified, and Routine Use F is being added to conform to Office of Management and Budget Memorandum M-17-12 regarding breach notification and investigation. FEMA is also updating this System of Records Notice to clarify the updated retention schedule. The National Archives and Records Administration (NARA) General Records Schedule (GRS) has been updated since this notice was last published. These records now follow General Records Schedule 1.2, Item 10 and Item 21. Furthermore, this notice includes non-substantive changes to simplify the formatting and text of the previously published notice.

Consistent with DHS's information-sharing mission, information stored in the DHS/FEMA-004 Non-Disaster Grant Management Information Files System of Records may be shared with other DHS components that have a need to know the information to carry out their national security, law enforcement, immigration, intelligence, or other homeland security functions. In addition, information may be shared with appropriate federal, state, local, tribal, territorial, foreign, or international government agencies consistent with the routine uses set forth in this system of records notice.

This updated system will be included in DHS's inventory of record systems.

II. Privacy Act

The Privacy Act codifies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the Judicial Redress Act, along with judicial review for denials of such requests. In addition, the Judicial Redress Act prohibits disclosures of covered records, except as otherwise permitted by the Privacy Act.

Below is the description of the DHS/FEMA-004 Non-Disaster Grant Management Information Files System of Records.

In accordance with 5 U.S.C. 552a(r), DHS has provided a report of this system of records to the Office of Management and Budget and to Congress.

SYSTEM NAME AND NUMBER:

Department of Homeland Security (DHS)/Federal Emergency Management Agency (FEMA)-004 Non-Disaster Grant Management Information Files.

SECURITY CLASSIFICATION:

Unclassified.

SYSTEM LOCATION:

DHS/FEMA maintains records at DHS/FEMA Headquarters in Washington, DC, and DHS/FEMA regional field offices. Additionally, DHS/FEMA maintains records in FEMA information technology systems such as the FEMA Non-Disaster (ND) Grants and Assistance to Firefighters Grants (AFG) systems.

SYSTEM MANAGER(S):

Deputy Assistant Administrator, Grant Program Directorate, Federal Emergency Management Agency, 500 C Street SW, Washington, DC 20472.

AUTHORITY FOR MAINTENANCE OF THE SYSTEM:

Section 614 of the Robert T. Stafford Disaster Relief and Emergency Assistance Act (42 U.S.C. 5196c), as amended by Section 202, Title II of the Implementing Recommendations of the 9/11 Commission Act of 2007 (Pub. L. 110-053); Section 1809 of the Homeland Security Act of 2002 (6 U.S.C. 571 et seq.), as amended by Section 301(a) Title III of the Implementing Recommendations of the 9/11 Commission Act of 2007 (Pub. L. 110-053); Section 2003(a) of the Homeland Security Act of 2002 (6 U.S.C. 101 et seq.), as amended by Section 101, Title I of the Implementing Recommendations of the 9/11 Commission Act of 2007, (Pub. L. 110-053); Section 2004(a) of the Homeland Security Act of 2002 (6 U.S.C. 101 et seq.), as amended by Section 101, Title I of the Implementing Recommendations of the 9/11 Commission Act of 2007, (Pub. L. 110-053); Section 2004 of the Homeland Security Act of 2002 (6 U.S.C. 605 et seq.), as amended by Section 101, Title I of the Implementing Recommendations of the 9/11 Commission Act of 2007, (Pub. L. 110-53); Section 2005 of the Homeland Security Act of 2002 (6 U.S.C. 606 et seq.), as amended by Section 101, Title I of the Implementing Recommendations of the 9/11 Commission Act of 2007, (Pub. L. 110-53); the Post-Katrina Emergency Management Reform Act of 2006 (6 U.S.C. 723); Title III of Division D of the Consolidated Security, Disaster Assistance, and Continuing Appropriations Act, 2009 (Pub. L. 110-329); Title III of Division E of the Consolidated Appropriations Act, 2008 (Pub. L. 110-161); Section 1406, Title XIV of the Implementing Recommendations of the 9/11 Commission Act of 2007 (Pub. L. 110-053); Section 1513, Title XV of the Implementing Recommendations of the 9/11 Commission Act of 2007 (Pub. L. 110-053); Section 1532(a), Title XV of the Implementing Recommendations of the 9/11 Commission Act of 2007 (Pub. L. 110-053); 46 U.S.C. 70107; the Federal Financial Assistance Management Improvement Act of 1999 (Pub. L. 160-107); and National Historic Preservation Act of 1966, as amended, Public Law 89-665, Sec. 102, 16 U.S.C. 470.

PURPOSE(S) OF THE SYSTEM:

The purpose of this system is to assist in determining eligibility of awards for non-disaster related grants and for the issuance of awarded funds. The system also allows DHS to contact individuals to ensure completeness and accuracy of grants and applications.

CATEGORIES OF INDIVIDUALS COVERED BY THE SYSTEM:

Categories of individuals covered by this system include the respective points of contact (POC) for grant applications and awardees of grant funds. Awardees of grant funds include state, local, tribal, and territorial governments; port authorities; transit authorities; non-profit organizations; and private companies (in rare instances).

CATEGORIES OF RECORDS IN THE SYSTEM:

Categories of records in this system include:

• Name of Organization's Designated Point of Contact;

• Point of Contact Title;

• Grant applicant organization Point of Contact's office mailing address;

• Grant applicant organization Point of Contact's office phone number;

• Grant applicant organization Point of Contact's office cellphone number;

• Grant applicant organization Point of Contact's office fax number;

• Grant applicant organization Point of Contact's work email address;

• Organization Name;

• Organization's Federal Employer Identification Number (EIN);

• Organization's Dun & Bradstreet (B&D) Data Universal Numbering System (DUNS) Number (a unique nine-digit numeric identifier assigned to each organization's location);

• Organization's Bank Routing Number; and

• Organization's Bank Account Number.

RECORD SOURCE CATEGORIES:

DHS/FEMA obtains records from grantees, applicants for award, grant applicants' points of contact, and grant program monitors.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation, or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when the department of Justice or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to and accomplish an agency function related to this system of records. Individuals provided information under this routine use are subject to the same Privacy Act requirements and limitations on disclosure as are applicable to DHS officers and employees.

I. To an individual's employer or affiliated organization to the extent necessary to verify employment or membership status.

J. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

POLICIES AND PRACTICES FOR STORAGE OF RECORDS:

DHS/FEMA stores records in this system electronically or on paper in secure facilities in a locked drawer behind a locked door. The records may be stored on magnetic disc, tape, and digital media.

POLICIES AND PRACTICES FOR RETRIEVAL OF RECORDS:

DHS/FEMA may retrieve records by the Point of Contact of an organization or the name of organization itself.

POLICIES AND PRACTICES FOR RETENTION AND DISPOSAL OF RECORDS:

DHS/FEMA retains grant application information for audit, oversight operations, and appeal purposes. In accordance with General Records Schedule (GRS) 1.2, Item 10, FEMA destroys grant administrative records and hard copies of unsuccessful grant application files after three years after final action is taken on the file. In accordance with General Records Schedule 1.2, Item 21, FEMA deletes electronically received and processed copies of unsuccessful grant application files after three years from the date final action is taken on the file.

In accordance with NARA Authority N1-311-95-001, Item 1, FEMA maintains grant project records for three years after the end of the fiscal year that the grant or agreement is finalized or when no longer needed, whichever is sooner.

In accordance with NARA Authority N1-311-95-001, Item 3, FEMA retires grant final reports to the Federal Records Center three years after cutoff and transfers them to NARA 20 years after cutoff. In accordance with NARA Authority N1-311-95-001, Item 2; N1-311-01-008, Item 1; and N1-311-04-001, Item 1, FEMA stores all other grant records for six years and three months from the date of closeout (when closeout is the date FEMA closes the grant in its financial system) and final audit and appeals are resolved and then deleted.

The customer service assessment forms that have been filled out and returned by disaster assistance applicants are temporary records that are destroyed upon transmission of the final report, per NARA Authority N1-311-00-001, Item 1.

The statistical and analytical reports resulting from these assessments are temporary records that are retired three years after the final report cutoff and destroyed 20 years after the report cutoff per NARA Authority N1-311-00-001, Item 2. The assessment results database are temporary records that are destroyed when no longer needed for analysis purposes, per NARA Authority N1-311-00-001, Item 3.

ADMINISTRATIVE, TECHNICAL, AND PHYSICAL SAFEGUARDS:

DHS/FEMA safeguards records in this system in accordance with applicable rules and policies, including all applicable DHS automated systems security and access policies. DHS/FEMA imposes strict controls to minimize the risk of compromising the information that is being stored. DHS/FEMA limits access to the computer system containing the records in this system to those individuals who have a need-to-know the information for the performance of their official duties and who have appropriate clearances or permissions.

RECORD ACCESS PROCEDURES:

Individuals seeking access to and notification of any record contained in this system of records, or seeking to contest its content, may submit a request in writing to the Chief Privacy Officer and FEMA's Freedom of Information Act (FOIA) Officer whose contact information can be found at https://www.dhs.gov/foia-contact-information. If an individual believes more than one component maintains Privacy Act records concerning him or her, the individual may submit the request to the Chief Privacy Officer and Chief Freedom of Information Act Officer, Department of Homeland Security, Washington, DC 20528-0655, or electronically at https://www.dhs.gov/dhs-foia-privacy-act-request-submission-form. Even if neither the Privacy Act nor the Judicial Redress Act provide a right of access, certain records about you may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. An individual may obtain more information about this process at http://www.dhs.gov/foia. In addition, the individual should:

• Explain why he or she believes the Department would have information being requested;

• Identify which component(s) of the Department he or she believes may have the information;

• Specify when the individual believes the records would have been created; and

• Provide any other information that will help the FOIA staff determine which DHS component agency may have responsive records.

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

For records covered by the Privacy Act or covered Judicial Redress Act records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record.

NOTIFICATION PROCEDURES:

See “Record Access Procedures” above.

EXEMPTIONS PROMULGATED FOR THE SYSTEM:

None.

HISTORY:

80 FR 13404 (March 13, 2015); and FR 39705 (August 7, 2009).

* * * * *

Lynn P. Dupree,
Chief Privacy Officer, Department of Homeland Security.

[FR Doc. 2022-14673 Filed 7-8-22; 8:45 am]

BILLING CODE 4410-10-P